ENVIRONMENTAL PROTECTION AGENCY

[FRL-9976-69—Region 6]

Clean Air Act Operating Permit Program; Petitions for Objection to State Operating Permit for Yuhuang Chemical Company, Inc. Methanol Plant, St James Parish Louisiana

AGENCY: Environmental Protection Agency (EPA).

ACTION: Notice of final Order on Petitions for objection to Clean Air Act title V operating permit.

SUMMARY: The Environmental Protection Agency (EPA) Administrator signed an Order dated April 2, 2018 denying Petitions dated March 30, 2017 and August 3, 2017 from the Louisiana Environmental Action Network and the Sierra Club (collectively, the Petitions and Petitioners, respectively). The Petitions requested that the EPA object to the Clean Air Act (CAA) title V operating permit 1560-00295-V1 issued on June 30, 2017 by the Louisiana Department of Environmental Quality (the LDEQ) to Yuhuang Chemical Company, Inc. (YCI) for its Methanol Plant located in St. James, St. James Parish, Louisiana.

ADDRESSES: The EPA requests that you contact the individual listed in the FOR FURTHER INFORMATION CONTACT section to view copies of the final Order, the Petition, and other supporting information. You may review copies of the final Order, the Petition, and other supporting information at the EPA Region 6 Office, 1445 Ross Avenue, Suite 700, Dallas, TX 75202. You may view the hard copies Monday through Friday, from 9 a.m. to 3 p.m., excluding federal holidays. If you wish to examine these documents, you should make an appointment at least 24 hours before the visiting day. Additionally, the final Order and Petition are available electronically at: https://www.epa.gov/ title-v-operating-permits/title-v-petition-database.

FOR FURTHER INFORMATION CONTACT: Brad Toups, EPA Region 6, by phone (214) 665-7258, or email at toups.brad@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issues arose after this period.

The EPA received the Petitions from the Petitioners dated March 30, 2017 and August 3, 2017, requesting that the EPA object to the issuance of operating permit no. 1560-00295-V1, issued by the LDEQ to YCI in St. James Parish, Louisiana. The Petitioners requested that the Administrator object to the proposed operating permit on several bases which are described in detail in Section IV of the Order. In summary, the issues raised include: Emissions limits for preconstruction purposes were not properly made (various claims, introduction to Order Section IV); and numerous claims concerning monitoring of emissions, such as the Steam Methane Reformer (SMR) carbon monoxide (CO) and Auxiliary Boiler CO emissions (Section IV.A.); claims concerning SMR volatile organic compound (VOC) emissions (Section IV.B.); claims concerning Auxiliary Boiler VOC emissions (Section IV.C.); claims concerning fugitive CO emissions (Section IV.D.), claims concerning truck, railcar, and marine loading VOC emissions (Section IV.E.); claims concerning storage tank VOC and hazardous air pollutant (HAP) emissions (Section IV.F.); and claims concerning flare VOC, particulate matter (PM), and CO emissions (Section IV.G.). The Order issued on April 2, 2018 responds to all claims in both petitions and explains the basis for the EPA's decision.

Sections 307(b) and 505(b)(2) of the CAA provide that a petitioner may request judicial review of those portions of an order that deny issues in a petition. Any petition for review shall be filed in the United States Court of Appeals for the appropriate circuit no later than June 11, 2018.

Dated: May 14, 2018.
Anne Idsal,
Regional Administrator, Region 6.

[FR Doc. 2018-10774 Filed 5-18-18; 8:45 am]

BILLING CODE 6560-50-P